DEPARTMENT OF THE INTERIOR

National Park Service

Notice of Availability of Final General Management Plan/Wilderness Study/Environmental Impact Statement for Sleeping Bear Dunes National Lakeshore, MI

AGENCY: National Park Service, Interior.

ACTION: Notice of Availability of Final General Management Plan/Wilderness Study/Environmental Impact Statement for Sleeping Bear Dunes National Lakeshore, MI.

SUMMARY: Pursuant to Section 102(2)(C) of the National Environmental Policy Act of 1969, 42 U.S.C. 4332(2)(C), the National Park Service (NPS) announces the availability of the Final General Management Plan/Wilderness Study/Environmental Impact Statement (GMP/WS/EIS) for Sleeping Bear Dunes National Lakeshore (Lakeshore), Michigan.

DATES: The final GMP/WS/EIS will remain available for public review for 30 days following the publishing of the notice of availability in the Federal Register by the U.S. Environmental Protection Agency.

ADDRESSES: Requests for copies of the Final GMP/WS/EIS should be sent to the Superintendent, Sleeping Bear Dunes National Lakeshore, 9922 Front Street, Empire, Michigan 49630-9797. You may also view the document via the Internet through the NPS Planning, Environment, and Public Comment Web site (http://parkplanning.nps.gov); simply click on the link to the Lakeshore.

SUPPLEMENTARY INFORMATION: The NPS prepared a draft GMP/WS/EIS for the Lakeshore, pursuant to Section 102(2)(C) of the National Environmental Policy Act of 1969, combining the plan, wilderness study, and an environmental analysis of both. The GMP provides a framework for making decisions about and managing the national lakeshore's resources and visitor use for the next 15-20 years. The WS produces a wilderness proposal that will be submitted to the NPS Director for approval and subsequently considered by the Department of the Interior, President, and Congress.

The draft was made available for public review for 69 days, from April 7, 2008 to June 15, 2008. During that time, the NPS distributed over 700 copies of the draft. Sixteen presentations on the contents of the draft were made upon request to various groups during the comment period, with a total of 363 persons in attendance. The draft was also made available at the park offices, on the Internet, and at area libraries. Public hearings were held on June 3, 4, and 5, 2008, attended by a total of 196 persons. Comments were received from 292 persons on the document during the public review period. Comments from individuals, groups, and public agencies on the alternatives, the preferred alternative, and the environmentally preferred alternative were considered.

The preferred alternative will provide for the preservation of natural resources, while offering opportunities for visitor enjoyment of natural, cultural, and recreational resources in a scenic outdoor setting.

FOR FURTHER INFORMATION CONTACT: Contact Superintendent Shultz, Sleeping Bear Dunes National Lakeshore, at the address or telephone number above.

Dated: September 26, 2008.
Ernest Quintana,
Director, Midwest Region.

[FR Doc. E8-29514 Filed 12-12-08; 8:45 am]

BILLING CODE 4310-HH-P